DEPARTMENT OF TRANSPORTATION

Federal Aviation Administration

14 CFR Part 39

[Docket No. FAA-2016-9382; Directorate Identifier 2016-CE-032-AD; Amendment 39-18790; AD 2017-02-11]

RIN 2120-AA64

Airworthiness Directives; Alexander Schleicher GmbH & Co. Gliders

AGENCY: Federal Aviation Administration (FAA), Department of Transportation (DOT).

ACTION: Final rule.

SUMMARY: We are adopting a new airworthiness directive (AD) for Alexander Schleicher GmbH & Co. Model ASK 21 gliders. This AD results from mandatory continuing airworthiness information (MCAI) issued by an aviation authority of another country to identify and correct an unsafe condition on an aviation product. The MCAI describes the unsafe condition as cable slack in gliders equipped with a rudder hand control system leading to a short-term blockage of the rudder control system and reduced control. We are issuing this AD to require actions to address the unsafe condition on these products.

DATES: This AD is effective March 17, 2017.

The Director of the Federal Register approved the incorporation by reference of a certain publication listed in the AD as of March 17, 2017.

ADDRESSES: You may examine the AD docket on the Internet at http://www.regulations.gov by searching for and locating Docket No. FAA-2016-9382; or in person at Document Management Facility, U.S. Department of Transportation, Docket Operations, M-30, West Building Ground Floor, Room W12-140, 1200 New Jersey Avenue SE., Washington, DC 20590.

For service information identified in this AD, contact Alexander Schleicher GmbH & Co. Segelflugzeugbau, Alexander-Schleicher-Str. 1, D-36163 Poppenhausen, Germany; phone: +49 (0) 06658 89-0; fax: +49 (0) 06658 89-40; Internet: http://www.alexander-schleicher.de/; email: info@alexander-schleicher.de. You may view this referenced service information at the FAA, Small Airplane Directorate, 901 Locust, Kansas City, Missouri 64106. For information on the availability of this material at the FAA, call (816) 329-4148. It is also available on the Internet at http://www.regulations.gov by searching for Docket No. FAA-2016-9382.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to Alexander Schleicher GmbH & Co. Model ASK 21 gliders. The NPRM was published in the Federal Register on November 10, 2016 (81 FR 78947). The NPRM proposed to correct an unsafe condition for the specified products and was based on mandatory continuing airworthiness information (MCAI) originated by an aviation authority of another country. The MCAI states:

A temporary rudder control blockage was reported, involving an ASK 21 sailplane equipped with a rudder hand control system. The subsequent investigation revealed significant cable slack in the rudder control system.

This condition, if not detected and corrected, could lead to reduced rudder control, possibly resulting in reduced controllability of the sailplane.

To address this potentially unsafe condition, Schleicher issued ASK 21 Technical Note (TN) 38 to provide instructions to amend the ASK 21 Aircraft Flight Manual (AFM), incorporating updated pre-flight inspection instructions to check the rudder control system of sailplanes modified in accordance with the instructions of Schleicher ASK 21 TN 25 (rudder actuated by hand lever for the front pilot seat) or TN 30 (rudder control by hand for the rear pilot seat).

For reasons described above, this AD requires amendment of the applicable Schleicher ASK 21 AFM, revising pre-flight checks of the rudder hand control system. The MCAI can be found in the AD docket on the Internet at: https://www.regulations.gov/document?D=FAA-2016-9382-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

We reviewed Alexander Schleicher GmbH & Co. ASK 21 Technical Note No. 38, dated May 31, 2016. The service information describes procedures for inspecting gliders equipped with a rudder hand control system for proper tension and adjustment if necessary. This service information is reasonably available because the interested parties have access to it through their normal course of business or by the means identified in the ADDRESSES section of this AD.

Costs of Compliance

We estimate that this AD will affect 64 products of U.S. registry. We also estimate that it would take about 2 work-hours per product to comply with the basic requirements of this AD. The average labor rate is $85 per work-hour.

Based on these figures, we estimate the cost of this AD on U.S. operators to be $10,880, or $170 per product.

In addition, we estimate that any necessary follow-on actions would take about 1 work-hour for cost of $85 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-9382; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2017-02-11 Alexander Schleicher GmbH & Co.: Amendment 39-; Docket No. FAA-2016-9382; Directorate Identifier 2016-CE-032-AD.

(a) Effective Date

This airworthiness directive (AD) becomes effective March 17, 2017.

(b) Affected ADs

None.

(c) Applicability

This AD applies to Alexander Schleicher GmbH & Co. ASK 21 gliders, all serial numbers, certificated in any category, that are modified with a rudder hand control system using either ASK 21 Technical Note No. 25, dated February 16, 1993, or ASK 21 Technical Note No. 30, dated January 22, 2007.

(d) Subject

Air Transport Association of America (ATA) Code 27: Flight Controls.

(e) Reason

This AD was prompted by mandatory continuing airworthiness information (MCAI) originated by an aviation authority of another country to identify and correct an unsafe condition on an aviation product. The MCAI describes the unsafe condition as cable slack in gliders equipped with a rudder hand control system. We are issuing this proposed AD to correct any excess slack in the rudder hand control system, which could result in a short-term blockage of the rudder control system and reduced control.

(f) Actions and Compliance

Unless already done, do the actions in paragraphs (f)(1) through (4) of this AD:

(1) If the glider is equipped with a rudder actuated by means of a hand lever at the left cockpit wall in the front pilot seat by ASK 21 Technical Note (TN) No. 25, dated February 16, 1993, within the next 60 days after March 17, 2017 (the effective date of this AD), replace the flight manual (FM) and maintenance manual (MM) pages with the following pages in ASK 21 TN No. 38, dated May 31, 2016:

(i) FM: Check List/1, 16a, 19.1a., and 21.

(ii) MM: 13, 15.

(2) If the glider is equipped with a rudder actuated by means of a hand lever at the left cockpit wall in the rear pilot seat by ASK 21 TN No. 30, dated January 22, 2007, within the next 60 days after March 17, 2017 (the effective date of this AD), replace the FM and MM pages with the following pages in ASK 21 TN No. 38, dated May 31, 2016:

(i) FM: Check List/1, 16a, 18a, 19b, 19c, 19.1a, and 21.

(ii) MM: 13, 15.

(3) For all affected gliders, within the next 60 days after March 17, 2017 (the effective date of this AD) and repetitively thereafter at intervals not to exceed every 12 months, inspect the rudder cable tension and make any necessary corrections following the instructions from FM page 19.1a, Checking and Adjusting of the Cable Tension, as specified in ASK 21 TN No. 38, dated May 31, 2016.

(4) For all affected gliders, after March 17, 2017 (the effective date of this AD), any glider modified with a rudder hand control system in accordance with ASK 21 TN No. 25 or TN No. 30 must also have the FM and MM amended following the instructions in ASK 21 TN No. 38, dated May 31, 2016.

(g) Pilot Authorization

In addition to the provisions of 14 CFR 43.3 and 43.7, the actions required by paragraph (f)(1) through (2) of this AD may be performed by the owner/operator (pilot) holding at least a private pilot certificate and must be entered into the glider records showing compliance with this AD following 14 CFR 43.9 (a)(1) through (4) and 14 CFR 91.417(a)(2)(v). The record must be maintained as required by 14 CFR 91.417, 121.380, or 135.439.

(h) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency (EASA) AD No.: 2016-0192, dated September 28, 2016; ASK 21 Technical Note No. 25, dated February 16, 1993; and ASK 21 Technical Note No. 30, dated January 22, 2007, for related information. The MCAI can be found in the AD docket on the Internet at: https://www.regulations.gov/document?D=FAA-2016-9382-0002.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Alexander Schleicher GmbH & Co. ASK 21 Technical Note No. 38, dated May 31, 2016.

(ii) Reserved.

(3) For Alexander Schleicher GmbH & Co service information identified in this AD, contact Alexander Schleicher GmbH & Co. Segelflugzeugbau, Alexander-Schleicher-Str. 1, D-36163 Poppenhausen, Germany; phone: +49 (0) 06658 89-0; fax: +49 (0) 06658 89-40; Internet: http://www.alexander-schleicher.de/; email: info@alexander-schleicher.de.

(4) You may review this referenced service information at the FAA, Small Airplane Directorate, 901 Locust, Kansas City, Missouri 64106. For information on the availability of this material at the FAA, call (816) 329-4148. In addition, you can access this service information on the Internet at http://www.regulations.gov by searching for and locating Docket No. FAA-2016-9382.

(5) You may view this service information that is incorporated by reference at the National Archives and Records Administration (NARA). For information on the availability of this material at NARA, call 202-741-6030, or go to: http://www.archives.gov/federal-register/cfr/ibr-locations.html.

Issued in Kansas City, Missouri, on January 19, 2017.
Melvin Johnson,
Acting Manager, Small Airplane Directorate, Aircraft Certification Service.

[FR Doc. 2017-01769 Filed 2-9-17; 8:45 am]

BILLING CODE 4910-13-P